DEPARTMENT OF ENERGY

10 CFR Part 431

[Docket Number EERE-2008-BT-STD-0015]

RIN 1904-AB86

Energy Conservation Program: Energy Conservation Standards for Walk-In Coolers and Freezers; Correction

AGENCY: Office of Energy Efficiency and Renewable Energy, Department of Energy.

ACTION: Final rule; correction.

SUMMARY: On June 3, 2014, the U.S. Department of Energy (DOE) issued a final rule adopting conservation standards for some classes of walk-in cooler and walk-in freezer components. The final rule was published with typographical errors to some of the reported values. DOE is providing corrections to address these errors. Neither the errors nor the corrections in this document affect the substance of the rulemaking or any of the conclusions reached in support of the final rule.

DATES: This correction is effective March 6, 2015.

FOR FURTHER INFORMATION CONTACT: Mr. John Cymbalsky, U.S. Department of Energy, Office of Energy Efficiency and Renewable Energy, Building Technologies Program, EE-5B, 1000 Independence Avenue SW., Washington, DC 20585-0121. Telephone: (202) 287-1692. Email: walk-in_coolers_and_walk-in_freezers@EE.Doe.Gov.

Mr. Michael Kido, U.S. Department of Energy, Office of the General Counsel, GC-33, 1000 Independence Avenue SW., Washington, DC 20585-0121. Telephone: (202) 586-8145. Email: Michael.Kido@hq.doe.gov.

SUPPLEMENTARY INFORMATION: The Department of Energy (“DOE”) is correcting certain typographical errors that appeared in a final rule amending the energy conservation standards for walk-in coolers and freezers. 79 FR 32050 (June 3, 2014). Neither the errors nor the corrections in this document affect the substance of the rulemaking or any of the conclusions reached in support of the final rule. DOE is making these corrections to ensure that the presentation of its analysis performed in support of that rulemaking is accurate.

In FR Doc 2014-11489 appearing in the issue of June 3, 2014 (79 FR 32049), make the following corrections:

Corrections

1. On page 32052, in Table I.2, under the Average LCC savings, and Median payback period values, for DC.M.I, first row, is corrected to read “1485”, second column and “2.8” third column, respectively.

2. On page 32102, Table V.12 is corrected to read as follows:

TSL | Energy consumption kWh/yr | Mean values of 2013$: Installed cost | Mean values of 2013$: Annual operating cost | Mean values of 2013$: LCC | Life-cycle cost savings: Average savings 2013$ | Life-cycle cost savings: Customer that experience %: Net cost % | Life-cycle cost savings: Customer that experience %: No impact % | Life-cycle cost savings: Customer that experience %: Net benefit % | Median payback period years
1 | 7550 | 5997 | 1512 | 18320 | 1485 | 0 | 0 | 100 | 2.8
2 | 7550 | 5997 | 1512 | 18320 | 1485 | 0 | 0 | 100 | 2.8
3 | 7550 | 5997 | 1512 | 18320 | 1485 | 0 | 0 | 100 | 2.8

3. On page 32115, in Table V.44, the Mean LCC Savings values for DC.M.I, third row, TSL 2 and TSL 3, third and fourth columns, are both corrected to read “1485”.

4. On page 32115, in Table V.45, Median Payback Period (in years) values for DC.M.I, third row, TSL 2 and TSL 3, third and fourth columns, are both corrected to read “2.8”.

5. On page 32115, in Table V.46, the Net Cost (%) values, for DC.M.I:, third row, TSL 2 and TSL 3, third and fourth columns, are both corrected to read “0”.

6. On page 32115, in Table V.46, the Net Benefit (%) values, for DC.M.I:, third row, TSL 2 and TSL 3, third and fourth columns, are both corrected to read “100”.

Issued in Washington, DC, on February 12, 2015.
Kathleen B. Hogan,
Deputy Assistant Secretary for Energy Efficiency, Energy Efficiency and Renewable Energy.

[FR Doc. 2015-05224 Filed 3-5-15; 8:45 am]

BILLING CODE 6450-01-P